ENVIRONMENTAL PROTECTION AGENCY

40 CFR Part 52

[OR 62-7277b, OR 71-7286b, OR-01-001b; FRL -7018-1]

Approval and Promulgation of State Implementation Plans: Oregon

AGENCY: Environmental Protection Agency (EPA).

ACTION: Proposed rule.

SUMMARY: EPA proposes to approve the State Implementation Plan (SIP) revisions submitted by Lane Regional Air Pollution Authority (LRAPA), through Oregon Department of Environmental Quality (ODEQ), for the purpose of improving the clarity, effectiveness, and enforceability of Oregon's SIP. The SIP revisions were submitted by the State to satisfy certain Federal Clean Air Act requirements under section 110. In the Final Rules section of this Federal Register, EPA is approving the State's SIP submittal as a direct final rule without prior proposal because the Agency believes this as a noncontroversial SIP revision and anticipates no adverse comments. A detailed rationale for the approval is set forth in the direct final rule and in the technical support document. If no adverse comments are received in response to this action, no further activity is contemplated. If EPA receives adverse comments, the direct final rule will be withdrawn and all public comments received will be addressed in a subsequent final rule based on this proposed rule. EPA will not institute a second comment period; therefore any party interested in commenting on this action should do so at this time.

DATES: Written comments must be received in writing on or before September 4, 2001.

ADDRESSES: Written comments should be addressed to: Debra Suzuki, EPA, Office of Air Quality (OAQ-107), 1200 Sixth Avenue, Seattle, Washington 98101. Copies of the state submittals we are acting on in this action and other information supporting this action are available at the following addresses for inspection during normal business hours. Any interested person wanting to examine these documents should make an appointment with the appropriate office at least 24 hours before the visiting day: Environmental Protection Agency, Region 10, Office of Air Quality (OAQ-107), 1200 Sixth Avenue, Seattle, Washington 98101; Oregon Department of Environmental Quality, 811 SW Sixth Avenue, Portland, Oregon 97204-1390; and Lane Regional Air Pollution Authority, 1010 Main Street, Springfield, Oregon 97477.

FOR FURTHER INFORMATION CONTACT: Debra Suzuki, EPA, Office of Air Quality (OAQ-107), 1200 Sixth Avenue, Seattle, Washington 98101, (206) 553-0985.

SUPPLEMENTARY INFORMATION: For additional information, see the Direct Final rule which is located in the Rules section of this Federal Register.

Dated: July 13, 2001.
Ronald A. Kreizenbeck,
Acting Regional Administrator, Region 10.

[FR Doc. 01-19321 Filed 8-2-01; 8:45 am]

BILLING CODE 6560-50-P